DEPARTMENT OF COMMERCE

National Oceanic and Atmospheric Administration

RIN 0649-XF021

Gulf of Mexico Fishery Management Council; Public Meeting

AGENCY: National Marine Fisheries Service (NMFS), National Oceanic and Atmospheric Administration (NOAA), Commerce.

ACTION: Notice of a public meeting via webinar.

SUMMARY: The Gulf of Mexico Fishery Management Council will hold a meeting of its Standing and Reef Fish Scientific and Statistical Committees (SSC) via webinar.

DATES: The meeting will convene on Tuesday, November 22, 2016, from 10 a.m. to 11 a.m. EST.

ADDRESSES: The meeting will be held via webinar; you may attend by registering at: https://attendee.gotowebinar.com/register/3715638296142754308. See below for instructions on how to register.

Council address: Gulf of Mexico Fishery Management Council, 2203 N. Lois Avenue, Suite 1100, Tampa, FL 33607; telephone: (813) 348-1630.

FOR FURTHER INFORMATION CONTACT: Steven Atran, Senior Fishery Biologist, Gulf of Mexico Fishery Management Council; steven.atran@gulfcouncil.org, telephone: (813) 348-1630.

SUPPLEMENTARY INFORMATION:

Tuesday, November 22, 2016; 10 a.m.-11 a.m.

I. Introductions, Voice ID, and Adoption of Agenda

II. SEDAR 48 (Black Grouper) Benchmark Assessment Preparation

a. Review and Approval of Terms of Reference

b. Review of Project Schedule

c. Selection of Appointees to Data, Assessment, and Review Workshops

III. Other Business

Meeting Adjourns

Both participants and observers must register in advance for the webinar. You may register for the SSC: Standing and Reef Fish webinar by going to the Council's Web site (http://www.gulfcoucil.org) and clicking on “Committee & Panel meetings, or by entering the following link: https://attendee.gotowebinar.com/register/3715638296142754308

After registering, you will receive a confirmation email containing information about joining the webinar.

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “SSC meeting-2016-11 webinar”.

The meeting will be webcast over the internet. See above for instructions on registering for the webinar.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: November 2, 2016.
Tracey L. Thompson,
Acting Deputy Director, Office of Sustainable Fisheries, National Marine Fisheries Service.

[FR Doc. 2016-26855 Filed 11-4-16; 8:45 am]

BILLING CODE 3510-22-P